DEPARTMENT OF TRANSPORTATION

Federal Aviation Administration

14 CFR Part 39

[Docket No. FAA-2005-20728; Directorate Identifier 2005-NM-003-AD]

RIN 2120-AA64

Airworthiness Directives; Empresa Brasileira de Aeronautica S.A. (EMBRAER) Model EMB-145 and -135 Series Airplanes

AGENCY: Federal Aviation Administration (FAA), Department of Transportation (DOT).

ACTION: Notice of proposed rulemaking (NPRM).

SUMMARY: The FAA proposes to adopt a new airworthiness directive (AD) for certain EMBRAER Model EMB-145 and -135 series airplanes. This proposed AD would require replacing the horizontal stabilizer control unit (HSCU) with a modified and reidentified or new, improved HSCU. For certain airplanes, this proposed AD would also require related concurrent actions as necessary. This proposed AD is prompted by reports of loss of the pitch trim system due to a simultaneous failure of both channels of the HSCU. We are proposing this AD to prevent loss of pitch trim and reduced controllability of the airplane.

DATES: We must receive comments on this proposed AD by April 29, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Empresa Brasileira de Aeronautica S.A. (EMBRAER), P.O. Box 343—CEP 12.225, Sao Jose dos Campos—SP, Brazil.

You can examine the contents of this AD docket on the Internet at http://dms.dot.gov, or in person at the Docket Management Facility, U.S. Department of Transportation, 400 Seventh Street SW., room PL-401, on the plaza level of the Nassif Building, Washington, DC. This docket number is FAA-2005-20728; the directorate identifier for this docket is 2005-NM-003-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-20728; Directorate Identifier 2005-NM-003-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Departmento de Aviacao Civil (DAC), which is the airworthiness authority for Brazil, notified us that an unsafe condition may exist on certain EMBRAER Model EMB-145 and EMB-135 series airplanes. The DAC advises that it has received reports of loss of the pitch trim system due to a simultaneous failure of both channels of the horizontal stabilizer control unit (HSCU). This condition, if not corrected, could result in loss of pitch trim and reduced controllability of the airplane.

Relevant Service Information

EMBRAER has issued Service Bulletins 145-27-0106, Revision 01 (for Model EMB-145 and EMB-135 series airplanes, except for EMB-135BJ series airplanes), and 145LEG-27-0016, Revision 01 (for Model EMB-135BJ series airplanes); both dated August 30, 2004. The service bulletins describe procedures for replacing the HSCU with a modified and reidentified or new, improved HSCU. Accomplishing the actions specified in the service information is intended to adequately address the unsafe condition. The DAC mandated the service information and issued Brazilian airworthiness directive 2004-11-01, dated November 28, 2004, to ensure the continued airworthiness of these airplanes in Brazil.

The EMBRAER service bulletins refer to Parker Service Bulletin 362100-27-265, dated June 25, 2004, as an additional source of service information for replacing the HSCU. The EMBRAER service bulletins include the Parker service bulletin.

The EMBRAER service bulletins specify, for certain airplanes, concurrent accomplishment of certain actions specified in EMBRAER Service Bulletins 145LEG-27-0002, Revision 01, dated April 15, 2003, and 145-27-0084, Revision 04, dated October 21, 2003. These actions include replacing the HSCU with a new HSCU with improved features, and having a new part number. Accomplishment of these actions is required by AD 2004-25-21, as discussed under “Related AD.”

Related AD

We have issued a related AD, AD 2004-25-21, amendment 39-13909 (69 FR 76605, December 22, 2004), which is applicable to certain EMBRAER Model EMB-135 and -145 series airplanes. Among other things, that AD requires accomplishment of EMBRAER Service Bulletins 145LEG-27-0002, Revision 01, dated April 15, 2003, and 145-27-0084, Revision 04, dated October 21, 2003, which describe procedures for replacing the HSCU with a new HSCU with improved features, and having a new part number. As explained previously, for certain airplanes, certain actions specified in these EMBRAER service bulletins must be accomplished before or during accomplishment of the replacement that would be required by this proposed AD.

FAA's Determination and Requirements of the Proposed AD

These airplane models are manufactured in Brazil and are type certificated for operation in the United States under the provisions of § 21.29 of the Federal Aviation Regulations (14 CFR 21.29) and the applicable bilateral airworthiness agreement. Pursuant to this bilateral airworthiness agreement, the DAC has kept the FAA informed of the situation described above. We have examined the DAC's findings, evaluated all pertinent information, and determined that we need to issue an AD for products of this type design that are certificated for operation in the United States.

Therefore, we are proposing this AD, which would require accomplishing the actions specified in the service information described previously, except as discussed under “Difference Between Proposed AD and Foreign Airworthiness Directive” and “Difference Between Proposed AD and Service Information.”

Difference Between Proposed AD and Foreign Airworthiness Directive

The DAC states that Brazilian airworthiness directive 2004-11-01, dated November 28, 2004, is applicable to “all EMB-145() and EMB-135() aircraft models in operation.” However, this does not agree with EMBRAER Service Bulletin 145-27-0106, Revision 01, and Service Bulletin 145LEG-27-0016, Revision 01; both dated August 30, 2004; which state that only EMB-145 and -135 airplanes with certain serial numbers are affected. This proposed AD would be applicable only to the airplanes identified in the service bulletins. This difference has been coordinated with the DAC.

Difference Between Proposed AD and Service Information

The accomplishment instructions of EMBRAER Service Bulletins 145-27-0106 and 145LEG-27-0016 do not specifically address, as a concurrent requirement, the accomplishment of Service Bulletins 145LEG-27-0002 and 145-27-0084; however, this concurrent accomplishment is specified in paragraph 1.C (1) of EMBRAER Service Bulletins 145-27-0106 and 145LEG-27-0016, and would be required for certain airplanes by this proposed AD.

Costs of Compliance

This proposed AD would affect about 616 airplanes of U.S. registry. The proposed actions would take about 1 work hour per airplane, at an average labor rate of $65 per work hour. Required parts would be supplied by the manufacturer at no cost. Based on these figures, the estimated cost of the proposed AD for U.S. operators is $40,040, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Empresa Brasileira de Aeronautica S.A. (EMBRAER): Docket No. FAA-2005-20728; Directorate Identifier 2005-NM-003-AD.

Comments Due Date

(a) The Federal Aviation Administration must receive comments on this AD action by April 29, 2005.

Affected ADs

(b) None.

Applicability

(c) This AD applies to Model EMB-145 and -135 series airplanes; certificated in any category; as identified in EMBRAER Service Bulletin 145-27-0106, Revision 01 (for Model EMB-145 and EMB-135 series airplanes, except for EMB-135BJ series airplanes), and EMBRAER Service Bulletin 145LEG-27-0016, Revision 01 (for Model EMB-135BJ series airplanes); both dated August 30, 2004.

Unsafe Condition

(d) This AD was prompted by reports of loss of the pitch trim system due to a simultaneous failure of both channels of the horizontal stabilizer control unit (HSCU). We are issuing this AD to prevent loss of pitch trim and reduced controllability of the airplane.

Compliance

(e) You are responsible for having the actions required by this AD performed within the compliance times specified, unless the actions have already been done.

Replacement

(f) Within 18 months or 4,000 flight hours after the effective date of this AD, whichever occurs first, replace the HSCU with a modified and reidentified or new, improved HSCU, part number 362100-1013, by doing all the actions specified in the Accomplishment Instructions of EMBRAER Service Bulletin 145-27-0106, Revision 01; or EMBRAER Service Bulletin 145LEG-27-0016, Revision 01; both dated August 30, 2004; as applicable.

Related AD

(g) For airplanes identified in paragraph 1.C (1) of EMBRAER Service Bulletins 145-27-0106, Revision 01, and 145LEG-27-0016, Revision 01, both dated August 30, 2004: Prior to or concurrently with the actions required by paragraph (f) of this AD, replace the HSCU with a new HSCU with improved features, and having a new part number, in accordance with EMBRAER Service Bulletins 145LEG-27-0002, Revision 01, dated April 15, 2003, or 145-27-0084, Revision 04, dated October 21, 2003, as applicable. These actions are currently required by AD 2004-25-21, amendment 39-13909 (69 FR 76605, December 22, 2004).

Actions Accomplished Per Previous Issue of Service Bulletin

(h) Actions accomplished before the effective date of this AD in accordance with EMBRAER Service Bulletin 145-27-0106, and EMBRAER Service Bulletin 145LEG-27-0016; both dated August 4, 2004; are considered acceptable for compliance with the applicable action in this AD.

Alternative Methods of Compliance (AMOCs)

(i) The Manager, International Branch, ANM-116, Transport Airplane Directorate, FAA, has the authority to approve AMOCs for this AD, if requested in accordance with the procedures found in 14 CFR 39.19.

Related Information

(j) Brazilian airworthiness directive 2004-11-01, dated November 28, 2004, also addresses the subject of this AD.

Issued in Renton, Washington, on March 18, 2005.
Ali Bahrami,
Manager, Transport Airplane Directorate, Aircraft Certification Service.

[FR Doc. 05-6252 Filed 3-29-05; 8:45 am]

BILLING CODE 4910-13-P